DEPARTMENT OF THE INTERIOR

Fish and Wildlife Service

50 CFR Parts 2, 10, 13, 14, 15, 16, 17, 18, 20, 21, 22, 23, 36, 80, 86, 91, and 100

[Docket No. FWS-HQ-BPHR-2014-0028; FXGO16600954000-134-FF09B30000]

RIN 1018-BA52

Addresses of Headquarters Offices

AGENCY: Fish and Wildlife Service, Interior.

ACTION: Final rule.

SUMMARY: We, the U.S. Fish and Wildlife Service (Service), are updating the addresses of our headquarters offices in our regulations. The Service will relocate its headquarters offices on July 28, 2014. We are taking this action to ensure regulated entities and the general public have accurate contact information for the Service's offices.

DATES: This rule is effective on July 29, 2014.

ADDRESSES: This final rule is available on the Internet at http://www.regulations.gov under Docket No. FWS-HQ-BPHR-2014-0028.

FOR FURTHER INFORMATION CONTACT: Andrew Brown, 703-358-2179.

SUPPLEMENTARY INFORMATION: The Service will relocate its headquarters offices to Falls Church, VA, on July 28, 2014. The address of several headquarters offices are referenced throughout numerous sections of the regulations in title 50 of the Code of Federal Regulations (CFR). This final rule updates the addresses of the Service's headquarters offices in the regulations. See the Regulation Promulgation section of this rule for the specific revisions we are making to the regulations.

These actions are administrative in nature. We are providing regulated entities and the general public with accurate contact information for the Service's offices. Under 5 U.S.C. 553(b), rules of agency organization, procedure, or practice may be made final without previous notice to the public. This is a final rule. In addition, under 5 U.S.C. 553(d), we may make this rule effective in less than 30 days if we have “good cause” to do so. The rule provides accurate contact information for our offices, and this action will benefit regulated entities and the general public. Therefore, we find that we have “good cause” to make this rule effective on July 29, 2014.

Required Determinations

Regulatory Planning and Review—Executive Orders 12866 and 13563

Executive Order 12866 provides that the Office of Information and Regulatory Affairs (OIRA) will review all significant rules. The OIRA has determined that this rule is not significant.

Executive Order (E.O.) 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Regulatory Flexibility Act (5 U.S.C. 601 et seq.)

Under the Regulatory Flexibility Act (5 U.S.C. 601 et seq., as amended by the Small Business Regulatory Enforcement Fairness Act (SBREFA) of 1996 (Pub. L. 104-121)), whenever an agency is required to publish a notice of rulemaking for any proposed or final rule, it must prepare and make available for public comment a regulatory flexibility analysis that describes the effect of the rule on small entities (that is, small businesses, small organizations, and small government jurisdictions). However, no regulatory flexibility analysis is required if the head of an agency certifies the rule will not have a significant economic impact on a substantial number of small entities.

SBREFA amended the Regulatory Flexibility Act to require Federal agencies to provide the statement of the factual basis for certifying that a rule will not have a significant economic impact on a substantial number of small entities.

We have examined this rule's potential effects on small entities as required by the Regulatory Flexibility Act, and have determined that this action will not have a significant economic impact on a substantial number of small entities. This rule updates the contact information for the Service's headquarters offices in our regulations in title 50 of the Code of Federal Regulations. We are taking this action to ensure that regulated entities and the general public have accurate contact information for the Service's offices. This rule will not result in any costs or benefits to any entities, large or small.

Therefore, we certify that, because this rule will not have a significant economic effect on a substantial number of small entities, a regulatory flexibility analysis is not required.

This rule is not a major rule under the SBREFA (5 U.S.C. 804(2)). It will not have a significant economic impact on a substantial number of small entities.

a. This rule does not have an annual effect on the economy of $100 million or more. There are no costs to any entities resulting from these revisions to the regulations.

b. This rule will not cause a major increase in costs or prices for consumers, individual industries, Federal, State, or local government agencies, or geographic regions. The updating of the Service's contact information does not affect costs or prices in any sector of the economy.

c. This rule will not have significant adverse effects on competition, employment, investment, productivity, innovation, or the ability of U.S.-based enterprises to compete with foreign-based enterprises.

Unfunded Mandates Reform Act

In accordance with the Unfunded Mandates Reform Act (2 U.S.C. 1501 et seq.), we have determined the following:

a. This rule will not “significantly or uniquely” affect small governments in a negative way. A small government agency plan is not required.

b. This rule will not produce a Federal mandate of $100 million or greater in any year. It is not a “significant regulatory action” under the Unfunded Mandates Reform Act.

Takings

Under the criteria outlined in E.O. 12630, this final rule does not have significant takings implications. This rule is an administrative action to update Service addresses; it does not contain a provision for taking of private property. A takings implication assessment is not required.

Federalism

This rule does not have sufficient Federalism effects to warrant preparation of a federalism summary impact statement under E.O. 13132.

Civil Justice Reform

In accordance with E.O. 12988, the Office of the Solicitor has determined that the rule does not unduly burden the judicial system and meets the requirements of sections 3(a) and 3(b)(2) of the Order.

Paperwork Reduction Act

This rule does not contain any information collection that would require approval under the Paperwork Reduction Act of 1995 (44 U.S.C. 3501 et seq.). A Federal agency may not conduct or sponsor, and a person is not required to respond to, a collection of information unless it displays a currently valid OMB control number.

National Environmental Policy Act

We evaluated the environmental impacts of the changes to the regulations, and determined that this rule does not have any environmental impacts.

Government-to-Government Relationship With Tribes

In accordance with the President's memorandum of April 29, 1994, “Government-to-Government Relations With Native American Tribal Governments” (59 FR 22951), Executive Order 13175, and 512 DM 2, we have evaluated potential effects on Federally recognized Indian Tribes and have determined that this rule will not interfere with Tribes' ability to manage themselves or their funds. This rule offers Tribes and the general public accurate contact information for our offices.

Energy Supply, Distribution, or Use

E.O. 13211 requires agencies to prepare Statements of Energy Effects when undertaking certain actions. Because this rule is administrative, it is not a significant regulatory action under E.O. 12866, and it will not significantly affect energy supplies, distribution, or use. Therefore, this action is not a significant energy action and no Statement of Energy Effects is required.

List of Subjects

50 CFR Part 2

Organization and functions (Government agencies).

50 CFR Part 10

Exports, Fish, Imports, Law enforcement, Plants, Transportation, Wildlife.

50 CFR Part 13

Administrative practice and procedure, Exports, Fish, Imports, Plants, Reporting and recordkeeping requirements, Transportation, Wildlife.

50 CFR Part 14

Animal welfare, Exports, Fish, Imports, Labeling, Reporting and recordkeeping requirements, Wildlife.

50 CFR Part 15

Imports, Reporting and recordkeeping requirements, Wildlife.

50 CFR Part 16

Fish, Imports, Reporting and recordkeeping requirements, Wildlife.

50 CFR Part 17

Endangered and threatened species, Exports, Imports, Reporting and recordkeeping requirements, Transportation.

50 CFR Part 18

Administrative practice and procedure, Alaska, Imports, Indians, Marine mammals, Oil and gas exploration, Reporting and recordkeeping requirements, Transportation.

50 CFR Part 20

Exports, Hunting, Imports, Reporting and recordkeeping requirements, Transportation, Wildlife.

50 CFR Part 21

Exports, Hunting, Imports, Reporting and recordkeeping requirements, Transportation, Wildlife.

50 CFR Part 22

Exports, Imports, Reporting and recordkeeping requirements, Transportation, Wildlife.

50 CFR Part 23

Endangered and threatened species, Exports, Imports, Treaties.

50 CFR Part 36

Alaska, Recreation and recreation areas, Reporting and recordkeeping requirements, Wildlife refuges.

50 CFR Part 80

Fish, Grant programs-natural resources, Reporting and recordkeeping requirements, Signs and symbols, Wildlife.

50 CFR Part 86

Administrative practice and procedure, Grant programs-recreation, Marine safety, Natural resources, Recreation and recreation areas, Reporting and recordkeeping requirements.

50 CFR Part 91

Hunting, Wildlife.

50 CFR Part 100

Administrative practice and procedure, Alaska, Fish, National forests, Public lands, Reporting and recordkeeping requirements, Wildlife.

Regulation Promulgation

Accordingly, we amend parts 2, 10, 13, 14, 15, 16, 17, 18, 20, 21, 22, 23, 36, 80, 86, 91, and 100 of subchapters A, B, C, F, G, and H of chapter I, title 50 of the Code of Federal Regulations, as set forth below:

Subchapter A—General Provisions

PART 2—AGENCY ORGANIZATION AND LOCATIONS

1. The authority citation for part 2 continues to read as follows:

Authority: 5 U.S.C. 301.

2. Revise the heading for part 2 to read as set forth above.

3. Revise § 2.1 to read as follows:

§ 2.1 Headquarters.

The U.S. Fish and Wildlife Service is composed of a main office in the Washington, DC, area, referred to as “Headquarters”; eight regional offices, which are described in § 2.2; and a variety of field installations, a nationwide network of law enforcement agents, and a number of field study teams for biological and ecological activities. Headquarters includes the Office of the Director, as well as program areas headed by Assistant Directors.

(a) The address for the Office of the Director is: Office of the Director, U.S. Fish and Wildlife Service, Main Interior, 1849 C Street NW., Room 3331, Washington, DC 20240-0001.

(b) The address of Headquarters program areas is: U.S. Fish and Wildlife Service Headquarters, MS: [Insert appropriate Mail Stop from table], 5275 Leesburg Pike, Falls Church, VA 22041-3803.

Headquarters program | Mail stop
Business Management and Operations | MS: BMO.
Budget, Planning and Human Capital, including:
• Service's Information Collection Clearance Officer | MS: BPHC.
External Affairs | MS: EA.
Ecological Services, Including:
• Division of Environmental Review | MS: ES.
Fish and Aquatic Conservation, including:
• Division of Fish and Aquatic Conservation Programs | MS: FAC.
International Affairs, including:
• Division of Management Authority | MS: IA.
• Division of Scientific Authority
Information Resource and Technology Management | MS: IRTM.
Migratory Birds, including:
• Division of Migratory Bird Management | MS: MB.
• Division of Bird Habitat Conservation
National Wildlife Refuge System | MS: NWRS.
Office of Diversity and Inclusive Workforce Management | MS: ODIWM.
Office of Law Enforcement | MS: OLE.
Science Applications | MS: SA.
Wildlife and Sport Fish Restoration | MS: WSFR.

4. Amend § 2.2 by revising the section heading and introductory text to read as follows:

§ 2.2 Regional offices.

The U.S. Fish and Wildlife Service has eight regional offices that are responsible for implementing national policies. Each Regional Director has jurisdiction over Service activities performed by field installations in the State(s) encompassed by the region. Field installations include ecological services stations, endangered species stations, fishery assistance offices, national fish hatcheries, national wildlife refuges, research laboratories, and wildlife assistance offices. Unless otherwise stated for a particular matter in the regulations, all persons may secure from the regional offices information or make submittals or requests, as well as obtain forms and instructions as to the scope and contents of papers or reports required of the public. The geographic jurisdictions and addresses of the U.S. Fish and Wildlife regional offices are as follows:

* * * * *

Subchapter B—Taking, Possession, Transportation, Sale, Purchase, Barter, Exportation, and Importation of Wildlife and Plants

PART 10—GENERAL PROVISIONS

5. The authority citation for part 10 continues to read as follows:

Authority: 16 U.S.C. 668a-d, 703-712, 742a-j-l, 1361-1384, 1401-1407, 1531-1543, 3371-3378; 18 U.S.C. 42; 19 U.S.C. 1202.

6. Amend § 10.22 by revising paragraph (b) to read as follows:

§ 10.22 Law enforcement offices.

* * * * *

(b) Any resident or official of a foreign country may contact the Service's Headquarters Office of Law Enforcement at the address provided at 50 CFR 2.1(b) or by telephone at 703-358-1949.

PART 13—GENERAL PERMIT PROCEDURES

7. The authority citation for part 13 continues to read as follows:

Authority: 16 U.S.C. 668a, 704, 712, 742j-l, 1374(g), 1382, 1538(d), 1539, 1540(f), 3374, 4901-4916; 18 U.S.C. 42; 19 U.S.C. 1202; 31 U.S.C. 9701.

8. Amend § 13.11 by revising the first sentence of paragraph (b)(3) to read as follows:

§ 13.11 Application procedures.

* * * * *

(b) * * *

(3) You may obtain applications for Wild Bird Conservation Act permits (50 CFR part 15); injurious wildlife permits (50 CFR part 16); captive-bred wildlife registrations (50 CFR part 17); permits authorizing import, export, or foreign commerce of endangered and threatened species, and interstate commerce of nonnative endangered or threatened species (50 CFR part 17); marine mammal permits (50 CFR part 18); and permits and certificates for import, export, and re-export of species listed under the Convention on International Trade in Endangered Species of Wild Fauna and Flora (CITES) (50 CFR part 23) from the Service's permits Web page at http://www.fws.gov/permits/ or from the Division of Management Authority at the address provided at 50 CFR 2.1(b). * * *

* * * * *

PART 14—IMPORTATION, EXPORTATION, AND TRANSPORTATION OF WILDLIFE

9. The authority citation for part 14 continues to read as follows:

Authority: 16 U.S.C. 668, 704, 712, 1382, 1538(d)-(f), 1540(f), 3371-3378, 4223-4244, and 4901-4916; 18 U.S.C. 42; 31 U.S.C. 9701.

10. Amend § 14.3 by revising the third sentence to read as follows:

§ 14.3 Information collection requirements.

* * * You can direct comments regarding these information collection requirements to the Service's Information Collection Clearance Officer at the address provided at 50 CFR 2.1(b).

11. Amend § 14.106 by revising the fourth sentence of paragraph (a) to read as follows:

§ 14.106 Primary enclosures.

* * * * *

(a) * * * Copies may be inspected at the U.S. Fish and Wildlife Service Headquarters (see 50 CFR 2.1(b) for address) or at the National Archives and Records Administration (NARA). * * *

* * * * *

PART 15—WILD BIRD CONSERVATION ACT

12. The authority citation for part 15 continues to read as follows:

Authority: 16 U.S.C. 4901-4916.

13. Amend § 15.4 by revising the second sentence of paragraph (b) to read as follows:

§ 15.4 Information collection requirements.

* * * * *

(b) * * * Direct comments regarding the burden estimate or any other aspect of these reporting requirements to the Service's Information Collection Clearance Officer at the address provided at 50 CFR 2.1(b).

14. Amend § 15.21 by revising the first sentence of paragraph (c) to read as follows:

§ 15.21 General application procedures.

* * * * *

(c) A person wishing to obtain a permit under this subpart or approval of cooperative breeding programs under this subpart submits an application to the attention of the Director, U.S. Fish and Wildlife Service, at the address listed for the Division of Management Authority at 50 CFR 2.1(b). * * *

PART 16—INJURIOUS WILDLIFE

15. The authority citation for part 16 continues to read as follows:

Authority: 18 U.S.C. 42.

16. Amend § 16.13 by revising paragraph (f) to read as follows:

§ 16.13 Importation of live or dead fish, mollusks, and crustaceans, or their eggs.

* * * * *

(f) Information concerning the importation requirements of this section and application requirements for designation as a certifying official for purposes of this section may be obtained by contacting the Division of Fish and Aquatic Conservation Programs at the address provided at 50 CFR 2.1(b) or by telephone at 703-358-1878.

* * * * *

17. Amend § 16.22 by revising the first sentence of paragraph (a) and the last sentence of paragraph (d) to read as follows:

§ 16.22 Injurious wildlife permits.

* * * * *

(a) * * * Submit applications for permits to import, transport, or acquire injurious wildlife for such purposes to the attention of the Director, U.S. Fish and Wildlife Service, at the address listed for the Division of Management Authority at 50 CFR 2.1(b). * * *

* * * * *

(d) * * * Direct comments regarding the burden estimate or any other aspect of these reporting requirements to the Service's Information Collection Clearance Officer at the address provided at 50 CFR 2.1(b).

PART 17—ENDANGERED AND THREATENED WILDLIFE AND PLANTS

18. The authority citation for part 17 continues to read as follows:

Authority: 16 U.S.C. 1361-1407; 1531-1544; and 4201-4245, unless otherwise noted.

19. Amend § 17.9 by revising paragraph (a)(2) and the last sentence of paragraph (b) to read as follows:

§ 17.9 Permit applications and information collection requirements.

(a) * * *

(2) Submit permit applications for activities affecting native endangered and threatened species in international movement or commerce, and all activities affecting nonnative endangered and threatened species, to the attention of the Director, U.S. Fish and Wildlife Service, at the address listed for the Division of Management Authority at 50 CFR 2.1(b).

(b) * * * Direct comments regarding the burden estimate or any other aspect of these reporting requirements to the Service's Information Collection Clearance Officer at the address provided at 50 CFR 2.1(b).

20. Amend § 17.21 by revising the first sentence of paragraph (c)(4) and the first sentence of the introductory text of paragraph (g)(2) to read as follows:

§ 17.21 Prohibitions.

* * * * *

(c) * * *

(4) Any taking under paragraphs (c)(2) and (3) of this section must be reported in writing to the Office of Law Enforcement, at the address provided at 50 CFR 2.1(b), within 5 days. * * *

* * * * *

(g) * * *

(2) Any person subject to the jurisdiction of the United States seeking to engage in any of the activities authorized by this paragraph must first register with the Service's Division of Management Authority at the address provided at 50 CFR 2.1(b). * * *

* * * * *

21. Amend § 17.44 by revising the fourth sentence of the introductory text of paragraph (y)(5) and the note to paragraph (y)(6) to read as follows:

§ 17.44 Special rules—fishes.

* * * * *

(y) * * *

(5) * * * Facilities outside the littoral states wishing to obtain such exemptions must submit a written request to the Division of Management Authority at the address provided at 50 CFR 2.1(b) and provide information that shows, at a minimum, all of the following:

* * * * *

(6) * * *

Note to paragraph (y)(6): A listing of all countries that have not designated either a Management Authority or Scientific Authority, or that have been identified as countries from which Parties should not accept permits, is available by writing to the Division of Management Authority at the address provided at 50 CFR 2.1(b).

* * * * *

PART 18—MARINE MAMMALS

22. The authority citation for part 18 continues to read as follows:

Authority: 16 U.S.C. 1361 et seq.

23. Amend § 18.4 by revising the second sentence of paragraph (b) to read as follows:

§ 18.4 Information collection requirements.

* * * * *

(b) * * * Send comments regarding this burden or any other aspect of this collection of information, including suggestions for reducing the burden, to the Service's Information Collection Clearance Officer at the address provided at 50 CFR 2.1(b).

24. Amend § 18.27 by revising the last sentence of paragraph (b) to read as follows:

§ 18.27 Regulations governing small takes of marine mammals incidental to specified activities.

* * * * *

(b) * * * Direct comments regarding the burden estimate or any other aspect of this requirement to the Service's Information Collection Clearance Officer at the address provided at 50 CFR 2.1(b).

* * * * *

25. Amend § 18.30 by revising the first sentence of paragraph (a) to read as follows:

§ 18.30 Polar bear sport-hunted trophy import permits.

(a) * * * You, as the hunter or heir of the hunter's estate, must submit an application for a permit to import a trophy of a polar bear taken in Canada to the Division of Management Authority at the address provided at 50 CFR 2.1(b).* * *

* * * * *

26. Amend § 18.119 by revising paragraph (b) to read as follows:

§ 18.119 What are the information collection requirements?

* * * * *

(b) You should direct comments regarding the burden estimate or any other aspect of this requirement to the Service's Information Collection Clearance Officer at the address provided at 50 CFR 2.1(b).

27. Amend § 18.129 by revising paragraph (b) to read as follows:

§ 18.129 What are the information collection requirements?

* * * * *

(b) You should direct comments regarding the burden estimate or any other aspect of this requirement to the Service's Information Collection Clearance Officer at the address provided at 50 CFR 2.1(b).

PART 20— MIGRATORY BIRD HUNTING

28. The authority citation for part 20 continues to read as follows:

Authority: Migratory Bird Treaty Act, 40 Stat. 755, 16 U.S.C. 703-712; Fish and Wildlife Act of 1956, 16 U.S.C. 742a-j; Public Law 106-108, 113 Stat. 1491, Note Following 16 U.S.C. 703.

29. Amend § 20.20 by revising the last sentence of paragraph (a) to read as follows:

§ 20.20 Migratory Bird Harvest Information Program.

(a) * * * Send comments regarding this burden estimate or any other aspect of this collection of information, including suggestions for reducing the burden, to the Service's Information Collection Clearance Officer at the address provided at 50 CFR 2.1(b).

* * * * *

PART 21—MIGRATORY BIRD PERMITS

30. The authority citation for part 21 continues to read as follows:

Authority: 16 U.S.C. 703-712.

31. Amend § 21.4 by revising the second sentence of paragraph (b) to read as follows:

§ 21.4 Information collection requirements.

* * * * *

(b) * * * Direct comments regarding the burden estimate or any other aspect of these reporting requirements to the Service's Information Collection Clearance Officer at the address provided at 50 CFR 2.1(b).

32. Amend § 21.26 by revising the last sentence of paragraph (e) to read as follows:

§ 21.26 Special Canada goose permit.

* * * * *

(e) * * * States may send comments regarding this burden estimate or any other aspect of this collection of information, including suggestions for reducing the burden, to the Service's Information Collection Clearance Officer at the address provided at 50 CFR 2.1(b).

33. Amend § 21.31 by revising footnote 2 to paragraph (f)(2) to read as follows:

§ 21.31 Rehabilitation permits.

* * * * *

(f) * * *

(2) * * *

² You can obtain copies of this document by writing to the Division of Environmental Review at the address provided at 50 CFR 2.1(b).

* * * * *

34. Amend § 21.43 by revising the last sentence of paragraph (g) to read as follows:

§ 21.43 Depredation order for blackbirds, cowbirds, grackles, crows, and magpies.

* * * * *

(g) * * * You may send comments on the information collection requirements to the Service's Information Collection Clearance Officer at the address provided at 50 CFR 2.1(b).

35. Amend § 21.49 by revising the last sentence of paragraph (f) to read as follows:

§ 21.49 Control order for resident Canada geese at airports and military airfields.

* * * * *

(f) * * * You may send comments on the information collection and recordkeeping requirements to the Service's Information Collection Clearance Officer at the address provided at 50 CFR 2.1(b).

36. Amend § 21.50 by revising the last sentence of paragraph (f) to read as follows:

§ 21.50 Depredation order for resident Canada geese nests and eggs.

* * * * *

(f) * * * You may send comments on the information collection and recordkeeping requirements to the Service's Information Collection Clearance Officer at the address provided at 50 CFR 2.1(b).

37. Amend § 21.51 by revising the last sentence of paragraph (f) to read as follows:

§ 21.51 Depredation order for resident Canada geese at agricultural facilities.

* * * * *

(f) * * * You may send comments on the information collection and recordkeeping requirements to the Service's Information Collection Clearance Officer at the address provided at 50 CFR 2.1(b).

38. Amend § 21.52 by revising the last sentence of paragraph (g) to read as follows:

§ 21.52 Public health control order for resident Canada geese.

* * * * *

(g) * * * You may send comments on the information collection and recordkeeping requirements to the Service's Information Collection Clearance Officer at the address provided at 50 CFR 2.1(b).

39. Amend § 21.60 by revising the first sentence of paragraph (f)(9) and the last sentence of paragraph (j) to read as follows:

§ 21.60 Conservation order for light geese.

* * * * *

(f) * * *

(9) The States and Tribes must submit an annual report summarizing activities conducted under the conservation order on or before September 15 of each year, to the Chief, Division of Migratory Bird Management, at the address provided at 50 CFR 2.1(b). * * *

* * * * *

(j) * * * At any time, you may submit comments on these information collection requirements to the Service's Information Collection Clearance Officer at the address provided at 50 CFR 2.1(b).

40. Amend § 21.61 by revising the second sentence of paragraph (d)(7)(iv), the last sentence of paragraph (g), and the last sentence of paragraph (i) to read as follows:

§ 21.61 Population control of resident Canada geese.

* * * * *

(d) * * *

(7) * * *

(iv) * * * The States and Tribes must submit an annual report summarizing activities conducted under the program and an assessment of the continuation of the injuries on or before June 1 of each year to the Chief, Division of Migratory Bird Management, at the address provided at 50 CFR 2.1(b).

* * * * *

(g) * * * The States and Tribes must submit this estimate on or before August 1 of each year, to the Chief, Division of Migratory Bird Management, at the address provided at 50 CFR 2.1(b).

* * * * *

(i) * * * You may send comments on the information collection and recordkeeping requirements to the Service's Information Collection Clearance Officer at the address provided at 50 CFR 2.1(b).

PART 22—EAGLE PERMITS

41. The authority citation for part 22 continues to read as follows:

Authority: 16 U.S.C. 668-668d; 16 U.S.C. 703-712; 16 U.S.C. 1531-1544.

42. Amend § 22.4 by revising paragraph (b) to read as follows:

§ 22.4 Information collection requirements.

* * * * *

(b) Direct comments regarding any aspect of these reporting requirements to the Service's Information Collection Clearance Officer at the address provided at 50 CFR 2.1(b).

43. Amend § 22.21 by revising the last sentence of paragraph (a)(2) to read as follows:

§ 22.21 What are the requirements concerning scientific and exhibition purpose permits?

* * * * *

(a) * * *

(2) * * * Mail should be sent to the Division of Management Authority at the address provided at 50 CFR 2.1(b).

* * * * *

PART 23—CONVENTION ON INTERNATIONAL TRADE IN ENDANGERED SPECIES OF WILD FAUNA AND FLORA (CITES)

44. The authority citation for part 23 continues to read as follows:

Authority: Convention on International Trade in Endangered Species of Wild Fauna and Flora (March 3, 1973), 27 U.S.T. 1087; and Endangered Species Act of 1973, as amended, 16 U.S.C. 1531 et seq.

45. Amend § 23.7 by revising paragraphs (a), (b), and (c) to read as follows:

§ 23.7 What office do I contact for CITES information?

* * * * *

Type of information | Office to contact
(a) CITES administrative and management issues:
(1) CITES documents, including application forms and procedures; lists of registered scientific institutions and operations breeding Appendix-I wildlife for commercial purposes; and reservations (2) Information on the CoP (3) List of CITES species (4) Names and addresses of other countries' Management and Scientific Authority offices (5) Notifications, resolutions, and decisions (6) Standing Committee documents and issues (7) State and tribal export programs | U.S. Management Authority, U.S. Fish and Wildlife Service Headquarters, MS: IA, 5275 Leesburg Pike, Falls Church, VA 22041-3803, Toll Free: (800) 358-2104/permit questions, Tel: (703) 358-2095/other questions, Fax: (703) 358-2281/permits, Fax: (703) 358-2298/other issues, Email: managementauthority@fws.gov, Web site: http://www.fws.gov/international and http://www.fws.gov/permits.
(b) Scientific issues:
(1) Animals and Plants Committees documents and issues (2) Findings of non-detriment and suitability of facilities, and other scientific findings (3) Listing of species in the Appendices and relevant resolutions (4) Names and addresses of other countries' Scientific Authority offices and scientists involved with CITES-related issues (5) Nomenclatural issues | U.S. Scientific Authority, U.S. Fish and Wildlife Service Headquarters, MS: IA, 5275 Leesburg Pike, Falls Church, VA 22041-3803, Tel: (703) 358-1708, Fax: (703) 358-2276, Email: scientificauthority@fws.gov, Web site: http://www.fws.gov/international.
(c) Wildlife clearance procedures:
(1) CITES replacement tags (2) Information about wildlife port office locations (3) Information bulletins (4) Inspection and clearance of wildlife shipments involving import, introduction from the sea, export, and re-export, and filing a Declaration of Importation or Exportation of Fish or Wildlife (Form 3-177) (5) Validation, certification, or cancellation of CITES wildlife documents | Law Enforcement, U.S. Fish and Wildlife Service Headquarters, MS: OLE, 5275 Leesburg Pike, Falls Church, VA 22041-3803, Tel: (703) 358-1949, Fax: (703) 358-2271, Web site: http://www.fws.gov/le.
* * * * * * *

46. Amend § 23.9 by revising the second sentence of paragraph (a) to read as follows:

§ 23.9 Incorporation by reference.

(a) * * * You may inspect copies at the U.S. Management Authority, U.S. Fish and Wildlife Service Headquarters, MS. IA, 5275 Leesburg Pike, Falls Church, VA 22041-3803, or at the National Archives and Records Administration (NARA). * * *

* * * * *

Subchapter C—The National Wildlife Refuge System

PART 36—ALASKA NATIONAL WILDLIFE REFUGES

47. The authority citation for part 36 continues to read as follows:

Authority: 16 U.S.C. 460(k) et seq., 668dd-668ee, 3101 et seq.

48. Amend § 36.3 by revising the last sentence to read as follows:

§ 36.3 Information collection.

* * * Comments and suggestions on the burden estimate or any other aspect of the form should be sent directly to the Service's Information Collection Clearance Officer at the address provided at 50 CFR 2.1(b).

Subchapter F—Financial Assistance—Wildlife Sport Fish Restoration Program

PART 80—ADMINISTRATIVE REQUIREMENTS, PITTMAN-ROBERTSON WILDLIFE RESTORATION AND DINGELL-JOHNSON SPORT FISH RESTORATION ACTS

49. The authority citation for part 80 continues to read as follows:

Authority: 16 U.S.C. 669-669k; 16 U.S.C. 777-777n, except 777e-1 and g-1.

50. Amend § 80.160 by revising paragraph (c) to read as follows:

§ 80.160 What are the information collection requirements of this part?

* * * * *

(c) Send comments on the information collection requirements to the Service's Information Collection Clearance Officer at the address provided at 50 CFR 2.1(b).

PART 86—BOATING INFRASTRUCTURE GRANT (BIG) PROGRAM

51. The authority citation for part 86 continues to read as follows:

Authority: 16 U.S.C. 777g, 777g-1.

52. Amend § 86.16 by revising the first sentence of paragraph (c) to read as follows:

§ 86.16 What are the information collection requirements?

* * * * *

(c) Send comments regarding this collection of information to the Service's Information Collection Clearance Officer at the address provided at 50 CFR 2.1(b).

* * * * *

Subchapter G—Miscellaneous Provisions

PART 91—MIGRATORY BIRD HUNTING AND CONSERVATION STAMP CONTEST

53. The authority citation for part 91 continues to read as follows:

Authority: 5 U.S.C. 301; 16 U.S.C. 718j; 31 U.S.C. 9701.

54. Amend § 91.1 by revising the second sentence of paragraph (b) to read as follows:

§ 91.1 Purpose of regulations.

* * * * *

(b) * * * A copy of the regulations, along with the Reproduction Rights Agreement and Display and Participation Agreement, may be requested from the Federal Duck Stamp Office at the address for the Division of Bird Habitat Conservation provided at 50 CFR 2.1(b). * * *

Subchapter H—National Wildlife Monuments

PART 100—SUBSISTENCE MANAGEMENT REGULATIONS FOR PUBLIC LANDS IN ALASKA

55. The authority citation for part 100 continues to read as follows:

Authority: 16 U.S.C. 3, 472, 551, 668dd, 3101-3126; 18 U.S.C. 3551-3586; 43 U.S.C. 1733.

56. Amend § 100.9 by revising the first sentence of paragraph (b) to read as follows:

§ 100.9 Information collection requirements.

* * * * *

(b) You may direct comments on the burden estimate or any other aspect of the burden estimate to the Service's Information Collection Clearance Officer at the address provided at 50 CFR 2.1(b). * * *

Dated: July 23, 2014.
Rachel Jacobson,
Principal Deputy Assistant Secretary for Fish and Wildlife and Parks.

[FR Doc. 2014-17768 Filed 7-24-14; 4:15 pm]

BILLING CODE 4310-55-P